ENVIRONMENTAL PROTECTION AGENCY

[Docket No: WA-04-005; FRL-7837-1]

Adequacy Status of the Yakima PM10 Nonattainment Area Limited Maintenance Plan and Redesignation Request for Transportation Conformity Purposes

AGENCY: Environmental Protection Agency (EPA).

ACTION: Notice of adequacy.

SUMMARY: In this notice, EPA is notifying the public that we have found the Yakima PM10 Nonattainment Area Limited Maintenance Plan and Redesignation Request adequate for transportation conformity purposes. On March 2, 1999, the D.C. Circuit Court ruled that submitted State Implementation Plans (SIPs) cannot be used for conformity determinations until EPA has found them adequate. As a result of this adequacy finding, the area automatically meets the budget test for future transportation conformity. This affects future transportation conformity determinations prepared, reviewed and approved by the Yakima Valley Council of Governments, Washington State Department of Transportation, Federal Highway Administration and the Federal Transit Administration.

DATES: This finding is effective November 29, 2004.

FOR FURTHER INFORMATION CONTACT: The finding is available at EPA's conformity Web site: http://www.epa.gov/otaq/transp.htm, (once there, click on the “Transportation Conformity” button, then look for “Adequacy Review of SIP Submissions”). You may also contact Wayne Elson, U.S. EPA, Region 10, Office of Air, Waste, and Toxics (AWT-107), 1200 Sixth Ave, Seattle WA 98101; (206) 553-1463 or elson.wayne@epa.gov.

SUPPLEMENTARY INFORMATION:

Background

Today's notice is simply an announcement of a finding that we have already made. EPA Region 10 sent a letter to the Washington Department of Ecology, October 12, 2004, stating that the SIP is adequate for transportation conformity purposes.

Transportation conformity is required by section 176(c) of the Clean Air Act. EPA's conformity rule requires that transportation plans, programs, and projects conform to SIPs. Conformity to a SIP means that transportation activities will not produce new air quality violations, worsen existing violations, or delay timely attainment of the national ambient air quality standards.

The criteria by which we determine whether a SIP is adequate for conformity purposes are outlined in 40 CFR 93.118(e)(4). Please note that an adequacy review is separate from EPA's completeness review and it also should not be used to prejudge our ultimate approval of the SIP. Even if we find a SIP adequate for conformity, the SIP could later be disapproved.

We have described our process for determining the adequacy in SIPs in guidance dated May 14, 1999. This guidance is now reflected in the amended transportation conformity rule, July 1, 2004 (69 FR 40004). We followed this process in making our adequacy determination.

Authority: 42 U.S.C. 7401-7671q.

Dated: November 4, 2004.
Ronald A. Kreizenbeck,
Acting Regional Administrator, Region 10.

[FR Doc. 04-25221 Filed 11-10-04; 8:45 am]

BILLING CODE 6560-50-P